DEPARTMENT OF THE INTERIOR

Office of the Secretary

[Docket No. ONRR-2012-0003]

U.S. Extractive Industries Transparency Initiative Multi-Stakeholder Group (USEITI MSG) Advisory Committee

AGENCY: Policy, Management and Budget, Interior.

ACTION: Meetings.

SUMMARY: This notice announces the April 11, 2013, teleconference and the May 1-2, 2013, meeting of the United States Extractive Industries Transparency Initiative (USEITI) Multi-Stakeholder Group (MSG) Advisory Committee. Agenda items for the April 11, 2013, teleconference will include: Final review and approval of the Terms of Reference, nomination and approval of co-chairs, approval of the first MSG meeting minutes, a progress report from the subcommittee, and public comments. The agenda for the May 1-2, 2013, meeting will include an overview and discussion of components needed for the draft USEITI candidacy application and other committee business, as needed. Final agendas and materials for both the teleconference and the meeting will be posted on the USEITI MSG Web site at www.doi.gov/eiti/faca.

DATES: Teleconference April 11, 2013, from 1:30 a.m. to 3:30 p.m. Eastern Time. Meeting May 1-2, 2013, from 9:30 a.m. to 5:00 p.m. Eastern Time.

ADDRESSES: Members of the public may listen to the April 11, 2013, teleconference meeting by dialing into a moderated conference line at 888-455-9744 and can observe the meeting proceedings online at http://bit.ly/16LMALk. The May 1-2, 2013, meeting will be held at the Main Interior Building, Room 7000A-7000B, 1849 C Street NW., Washington, DC, and public observers may listen to the proceedings at telephone number 866-707-0640 (Passcode: 1500538).

FOR FURTHER INFORMATION CONTACT: Ms. Shirley Conway, Office of Natural Resources Revenue, Office of the Assistant Secretary—Policy, Management and Budget; 1849 C Street NW., MS 4211, Washington, DC 20240. You may also contact Ms. Conway via email at Shirley.Conway@onrr.gov, by phone at 202-513-0598, or by fax at 202-513-0682.

SUPPLEMENTARY INFORMATION: The meetings are open to the public. Whenever possible, we encourage those participating by telephone to gather in conference rooms in order to share teleconference lines. Please plan to dial into the meeting at least 10-15 minutes prior to the scheduled start time in order to avoid possible technical difficulties. Individuals with special needs will be accommodated whenever possible. If you require special assistance (such as an interpreter for the hearing impaired), please notify Ms. Shirley Conway in advance of the meeting at 202-513-0598 or via email at Shirley.Conway@onrr.gov. Anyone wishing to provide comments during the public comment period must submit written statements to useiti@doi.gov by April 5, 2013, for the April 11, 2013, meeting and by April 25, 2013 for the May 1-2, 2013, meeting. In addition, individuals or groups wishing to make comments may do so for up to two minutes each, as time permits.

The minutes from these proceedings will be posted on our Internet site at http://www.doi.gov/eiti/faca and will also be available for public inspection and copying at our office in the Main Interior Building in Washington, DC, by contacting Shirley Conway via email at Shirley.Conway@onrr.gov or by telephone at 202-513-0598. For more information on USEITI, visit http://www.doi.gov/eiti or the international EITI Web site at www.eiti.org.

Dated: March 22, 2013.
Amy Holley,
Chief of Staff—Policy, Management and Budget.

[FR Doc. 2013-07064 Filed 3-26-13; 8:45 am]

BILLING CODE 4310-P